DEPARTMENT OF HEALTH AND HUMAN SERVICES

Office of the Secretary

OWH Observance Champions

AGENCY: Office of the Secretary, HHS.

ACTION: Notice.

SUMMARY: The U.S. Department of Health and Human Services' (HHS) Office on Women's Health (OWH) invites public and private sector organizations to apply to become a Women's Health Champion during National Women's Blood Pressure Awareness Week (NWBPAW), National Eating Disorder Awareness Week (NEDAW), National Women and Girls' HIV/AIDS Awareness Day (NWGHAAD), National Women's Health Week (NWHW), and/or other OWH observances.

DATES: Letters of interest will be accepted starting September 15, 2022, and will be reviewed periodically.

ADDRESSES: Letters of interest can be submitted via email to womenshealth@hhs.gov.

FOR FURTHER INFORMATION CONTACT: Jeff Ventura. Office on Women's Health, Office of the Assistant Secretary for Health, U.S. Department of Health and Human Services; 1101 Wootton Parkway, Rockville, MD 20852; Telephone: (202) 690-7650. Email: womenshealth@hhs.gov.

SUPPLEMENTARY INFORMATION:

Background: The HHS Office on Women's Health (OWH) is charged with providing expert advice and consultation to the Secretary concerning scientific, legal, ethical, and policy issues related to women's health. OWH establishes short-range and long-range goals within the Department and coordinates on activities within the Department that relate to disease prevention, health promotion, service delivery, research, and public and health care professional education, for issues of particular concern to women throughout their lifespan. OWH monitors the Department's activities regarding women's health and identifies needs regarding the coordination of activities. OWH is also responsible for facilitating the exchange of information through the National Women's Health Information Center. Additionally, OWH coordinates efforts to promote women's health programs and policies with the private sector.

Eligibility: Any organization may apply to become a Women's Health Champion. The selected Women's Health Champions may be recognized for their commitment and their work toward achieving the goals of the observance(s).

Women's Health Champions can be public and/or private organizations such as those at the state, local, county, and tribal levels, non-governmental organizations, non-profit organizations, businesses, academic organizations, organizations that impact health outcomes, philanthropic organizations, and tribal organizations that identify themselves as being aligned with or promoting the goals of the observance(s).

All organizations may apply.

Organizations that work to improve health outcomes in women may apply. Social organizations that work with, and/or have access to large populations of women may apply.

Individuals are not eligible to become Women's Health Champions.

Applicants shall submit a letter of interest and identify how they support or plan to support the observance(s)'s goals. Applicants will be considered according to the organization's commitment to support those goals.

Women's Health Champions may receive recognition from OWH on womenshealth.gov, girlshealth.gov, or OWH Social Media platforms. They may also receive information and resources for dissemination.

Funds: None. Neither HHS nor OWH will provide funds to support Women's Health Champions. Applicants, OWH, and Women's Health Champions will not be expected to contribute funds.

Application: Organizations may apply to become a Women's Health Champion. Organizations should submit a letter of interest acknowledging their support of the observance(s)'s overarching goals. Organizations interested in becoming Women's Health Champions shall identify in their letters of interest those activities that demonstrate commitment to the observance(s)'s overarching goals and objectives and indicate how they address or support those goals.

Office on Women's Health Programs and Activities: To achieve its mission, the Office on Women's Health leads a wide range of activities and programs, including several key observances. To learn more about our key observances, visit: https://www.womenshealth.gov/about-us/what-we-do/observances.

Requirements of Interested Organizations: Organizations must submit a letter of interest to become a Women's Health Champion.

Organizations selected by OWH to be Women's Health Champions will sign a letter of understanding (LOU) with OWH outlining the terms and parameters of their support for the observance(s). Selection as a Women's Health Champion does not imply any federal endorsement of the collaborating organization's general policies, activities, or products.

Eligibility for Interested Organizations: To be eligible to become a Women's Health Champion, an organization shall: (1) Have a demonstrated interest in, understanding of, and experience promoting access to resources and information regarding the observance's goals; or (2) have an organizational or corporate mission that is aligned with the observance's goals; and (3) agree to sign a LOU with OWH, which will set forth the details of how the organization is supporting the goals of the observance.

Letter of Interest Requirements: Each letter of interest shall contain: (1) Organization name, location, website, and submitter's contact information; (2) a brief description of the organization's mission and/or values; and (3) a description of how the organization supports or plans to support the observance(s).

Submission of a letter of interest does not guarantee acceptance as a Women's Health Champion.

Authority: 42 U.S.C. 237a; 42 U.S.C. 300u-2(a) and 300u-3; and section 13005 of the 21st Century Cures Act.

Dated: August 25, 2022.
Dorothy Fink,
Deputy Assistant Secretary for Women's Health, Office of the Assistant Secretary for Health.

[FR Doc. 2022-19839 Filed 9-13-22; 8:45 am]

BILLING CODE 4150-33-P